DEPARTMENT OF COMMERCE

International Trade Administration

[A-351-849]

Emulsion Styrene-Butadiene Rubber from Brazil: Final Results of Antidumping Duty Administrative Review; 2017-2018

AGENCY: Enforcement and Compliance, International Trade Administration, Department of Commerce.

SUMMARY: The Department of Commerce (Commerce) finds that ARLANXEO Brasil S.A. (ARLANXEO Brasil) made sales of certain emulsion styrene-butadiene rubber (ESB rubber) from Brazil at less than normal value during the period of review (POR) February 24, 2017 through August 31, 2018.

DATES: Applicable June 29, 2020.

FOR FURTHER INFORMATION CONTACT: Drew Jackson, AD/CVD Operations, Office IV, Enforcement and Compliance, International Trade Administration, U.S. Department of Commerce, 1401 Constitution Avenue NW, Washington, DC 20230; telephone: (202) 482-4406.

SUPPLEMENTARY INFORMATION:

Background

On November 14, 2019, Commerce published the Preliminary Results.¹ We invited interested parties to comment on the Preliminary Results.² This review covers one respondent, ARLANXEO Brasil S.A. (ARLANXEO Brasil). On December 13, 2019, ARLANXEO Brasil filed a case brief ³ and on December 23, 2019, the petitioner, Lion Elastomers, LLC, filed a rebuttal brief.⁴ On January 29, 2019, Commerce held a public hearing.⁵ On February 10, 2020, Commerce extended the deadline for issuing the final results of this review by 42 days.⁶ On April 17, 2020, Commerce extended the deadline for issuing the final results of this review by an additional 18 days.⁷ On April 24, 2020, Commerce tolled all deadlines in administrative reviews by 50 days, thereby extending the deadline for these results until July 1, 2020.⁸ Commerce conducted this review in accordance with section 751 of the Tariff Act of 1930, as amended (the Act).

¹ See Emulsion Styrene-Butadiene Rubber from Brazil: Preliminary Results of Antidumping Duty Administrative Review; 2017-2018, 84 FR 61889 (November 14, 2019) (Preliminary Results), and accompanying Preliminary Decision Memorandum.

² Id.

³ See ARLANXEO Brasil's Letter, “Emulsion Styrene-Butadiene Rubber from Brazil: ARLANXEO's Case Brief,” dated December 13, 2019.

⁴ Commerce rejected the petitioner's December 23, 2019 rebuttal brief because it contained untimely filed new factual information. See Commerce's Letter, “Antidumping Duty Administrative Review of Emulsion Styrene-Butadiene Rubber from Brazil: Rejection of Rebuttal Brief,” dated January 16, 2020. On January 17, 2020, the petitioner submitted a redacted rebuttal brief, which Commerce also rejected because it contained additional revisions that were not requested by Commerce. See Commerce's Letter, “Antidumping Duty Administrative Review of Emulsion Styrene-Butadiene Rubber from Brazil: Rejection of Lion Elastomers, LLC's January 17, 2020 Rebuttal Brief,” dated January 31, 2020. On January 31, 2020, the petitioner refiled its redacted rebuttal brief. See Petitioner's Letter, “Antidumping Review of Emulsion Styrene-Butadiene Rubber (E-SBR) from Brazil: Rebuttal Brief,” dated January 31, 2020.

⁵ See Public Hearing Transcript (undated), submitted February 5, 2020.

⁶ See Memorandum, “Emulsion Styrene Butadiene Rubber from Brazil: Extension of Deadline for Final Results of Antidumping Duty Administrative Review; 2017-2018,” dated February 10, 2020.

⁷ See Memorandum, “Emulsion Styrene Butadiene Rubber from Brazil: Extension of Deadline for Final Results of Antidumping Duty Administrative Review; 2017-2018,” dated April 17, 2020.

⁸ See Memorandum, “Tolling of Deadlines for Antidumping and Countervailing Duty Administrative Reviews in Response to Operational Adjustments Due to COVID-19,” dated April 24, 2020.

Scope of the Order

The merchandise covered by the order is certain emulsion styrene-butadiene rubber from Brazil. The merchandise subject to this order is currently classifiable under subheadings 4002.19.0015 and 4002.19.0019 of the Harmonized Tariff Schedule of the United States (HTSUS). ESB rubber is described by Chemical Abstract Services (CAS) Registry No. 9003-55-8. This CAS number also refers to other types of styrene butadiene rubber. Although the HTSUS subheadings and CAS registry number are provided for convenience and customs purposes, the written description of the scope of this order is dispositive. For a full description of the scope, see the Issues and Decision Memorandum.⁹

⁹ See Memorandum, “Issues and Decision Memorandum for the Final Results of the 2017-2018 Administrative Review of the Antidumping Order on Emulsion Styrene-Butadiene Rubber from Brazil,” dated concurrently with, and hereby adopted by, this notice (Issues and Decision Memorandum).

Analysis of Comments Received

All issues raised in the case and rebuttal briefs by parties to this administrative review are addressed in the Issues and Decision Memorandum. A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/index.html. The signed Issues and Decision Memorandum and the electronic versions of the Issues and Decision Memorandum are identical in content.

Changes Since the Preliminary Results

Based on a review of the record and an analysis of the comments received from parties regarding the Preliminary Results, we have made changes to the weighted-average dumping margin for ARLANXEO Brasil. For detailed information, see the Issues and Decision Memorandum.

Final Results of the Review

As a result of this review, Commerce determines that the following weighted-average dumping margin exists for the period February 24, 2017 through August 31, 2018:

Exporter/producer | Weighted- average margin (percent)
ARLANXEO Brasil S.A. | 21.22

Disclosure of Calculations

We intend to disclose the calculations performed for these final results within five days of the date of publication of this notice to parties in this proceeding, in accordance with 19 CFR 351.224(b).

Assessment Rates

Pursuant to section 751(a)(2)(C) of the Act and 19 CFR 351.212(b)(1), Commerce has determined, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

Commerce's “automatic assessment” practice will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

We intend to issue liquidation instructions to CBP 15 days after publication of the final results of this review.

Cash Deposit Requirements

The following cash deposit requirements will be effective for all shipments of the subject merchandise entered, or withdrawn from warehouse, for consumption on or after the publication date of the final results of this administrative review, as provided by section 751(a)(2) of the Act: (1) The cash deposit rate for ARLANXEO Brasil S.A. will be equal to the weighted-average dumping margin established in the final results of this review; (2) for merchandise exported by companies not covered in this review but covered in a prior segment of this proceeding, the cash deposit will continue to be the company-specific rate published for the most recently completed segment of this proceeding in which the company participated; (3) if the exporter is not a firm covered in this review or the original investigation, but the producer is, then the cash deposit rate will be the rate established for the most recently completed segment for the producer of the subject merchandise; and (4) the cash deposit rate for all other producers or exporters will continue to be 19.61 percent, the all-others rate established in the less-than-fair-value investigation.¹¹ These cash deposit requirements, when imposed, shall remain in effect until further notice.

¹¹ See Emulsion Styrene-Butadiene Rubber from Brazil: Final Affirmative Determination of Sales at Less Than Fair Value and Final Negative Determination of Critical Circumstances, 82 FR 33048 (July 19, 2019).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice serves as the only reminder to parties subject to APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notice to Interested Parties

This notice is issued and published in accordance with sections 751(a)(1) and 777(i)(1) of the Act.

Dated: June 23, 2020.
Jeffrey I. Kessler,
Assistant Secretary for Enforcement and Compliance.

Appendix

List of Topics Discussed in the Final Issues and Decision Memorandum

I. Summary

II. Background

III. Scope of the Order

IV. Changes Since the Preliminary Results

V. Discussion of the Issues

Comment 1: Whether Sales Occurred at Different Levels of Trade

Comment 2: Whether to Deduct Impostos Sobre Produtos Industrializados (IPI) Taxes from Home-Market Price

Comment 3: Preliminary Margin Calculations

VI. Recommendation

[FR Doc. 2020-13945 Filed 6-26-20; 8:45 am]

BILLING CODE 3510-DS-P